DEPARTMENT OF TRANSPORTATION

Federal Railroad Administration

[Docket No. FRA-2014-0011-N-5]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting the information collection request (ICR) below for clearance by the Office of Management and Budget (OMB), FRA is soliciting public comment on specific aspects of the activities identified below.

DATES: Comments must be received no later than May 5, 2014.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0594.” Alternatively, comments may be transmitted via facsimile to (202) 493-6216 or (202) 493-6479, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Railroad Safety Appliance Standards (Miscellaneous Revisions).

OMB Control Number: 2130-0594.

Abstract: FRA amended the regulations related to safety appliance arrangements on railroad equipment on April 28, 2011. See 76 FR 23714. The amendments are intended to promote the safe placement and securement of safety appliances on modern rail equipment by establishing a process for the review and approval of existing industry standards. This process permits railroad industry representatives to submit requests for the approval of existing industry standards relating to the safety appliance arrangements on newly constructed railroad cars, locomotives, tenders, or other rail vehicles in lieu of the specific provisions currently contained in part 231. It is anticipated that this special approval process enhances railroad safety by allowing FRA to consider technological advancements and ergonomic design standards for new car construction and ensuring that modern rail equipment complies with the applicable statutory and safety-critical regulatory requirements related to safety appliances while also providing the flexibility to efficiently address safety appliance requirements on new designs in the future for railroad cars, locomotives, tenders, or other rail vehicles. The information collected under this regulation is used by FRA to better serve the goal of adapting to changes in modern rail car design while also facilitating statutory and regulatory compliance.

Form Number(s): N/A.

Affected Public: Businesses.

Respondent Universe: 734 railroads/labor unions/general public.

Frequency of Submission: On occasion.

Reporting Burden:

CFR section | Respondent universe | Total annual responses | Average time per response | Total annual burden hours
231.33—Procedure for Special Approval of Existing Industry Safety Appliance Standards—Filing of Petitions: | AAR (Industry Rep.) | 5 petitions | 160 hours | 800
—Affirmative Statement by Petitioner that a Petition Copy has been served on Rep. of Employees Responsible for Equipment's Operation/Inspection/Testing/Maintenance | AAR (Industry Rep.) | 5 statements | 30 minutes | 3
—Service of Each Special Approval Petition on Parties Designated in section 231.33(c) | AAR (Industry Rep.) | 565 petition copies | 2 hours | 1,130
—Statement of Interest in Reviewing Special Approval Filed with FRA | 5 RR Labor Unions/General Public | 15 statements | 7 hours | 105
—Comments on Petitions for Special Approval | 728 Railroads/5 Labor Groups/General Public | 25 comments | 6 hours | 150
—Disposition of Petitions: Hearing on Petition for Special Approval | AAR/5 RR Labor Unions/General Public | 1 hearing | 8 hours | 8
—Disposition of Petitions: Petition Returned by FRA Requesting Additional Information | AAR (Industry Rep.) | 1 amended document | 3 hours | 3
231.35—Procedure for Modification of An Approved Industry Safety Appliance Standard for New Car Construction—Filing of Petitions: | AAR (Industry Rep.) | 5 petitions for modification | 160 hours | 800
—Affirmative Statement by Petitioner that a Petition Copy has been served on Rep. of Employees Responsible for Equipment's Operation/Inspection/Testing/Maintenance | AAR (Industry Rep.) | 5 statements | 30 minutes | 3
—Service of Each Special Approval Petition on Parties Designated in section 231.35(b) | AAR (Industry Rep.) | 565 petition copies | 2 hours | 1,130
—Statement of Interest in Reviewing Special Approval Filed with FRA | 5 RR Labor Unions/General Public | 15 statements | 7 hours | 105
—Comments on Petitions for Modification | 728 Railroads/5 Labor Groups/General Public | 25 comments | 6 hours | 150
—Disposition of Petitions: Petition Returned by FRA Requesting Additional Information | AAR (Industry Rep.) | 1 amended document | 3 hours | 3

Estimated Annual Burden: 4,390 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on 25 February 2014.
Rebecca Pennington,
Chief Financial Officer.

[FR Doc. 2014-04665 Filed 3-3-14; 8:45 am]

BILLING CODE 4910-06-P